DEPARTMENT OF ENERGY

Federal Energy Regulatory Commission

[Docket No. CP02-88-000]

Natural Gas Pipeline Company of America; Notice of Request Under Blanket Authorization

February 28, 2002.

Take notice that on February 19, 2002, Natural Gas Pipeline Company of America (Natural), 747 East 22nd Street, Lombard, Illinois 60148, filed in Docket No. CP02-88-000 a request pursuant to Sections 157.205 and 157.214 of the Commission's Regulations under the Natural Gas Act (18 CFR 157.205 and 157.214) for authorization to increase the maximum certificated inventory of gas at the Cooks Mills Storage Field, in Coles and Douglas Counties, Illinois from 5,200 MMCF to 6,400 MMCF, under Natural's blanket certificate issued in Docket No. CP82-402-000 pursuant to section 7 of the Natural Gas Act, all as more fully set forth in the request which is on file with the Commission and open to public inspection. This filing may be viewed on the Web at http://www.ferc.gov using the “RIMS” link, select “Docket #” from the RIMS Menu and follow the instructions (please call 202-208-2222 for assistance).

Natural proposes to increase the maximum certificated inventory at Cooks Mills from 5,200 MMCF to 6,400 MMCF by increasing the maximum bottom-hole reservoir pressure from 846 psia to 1,017 psia. Natural's request is based on the strong market demand for Natural's NSS service and the recognition that the Cooks Mills field has the characteristics to safely increase the total inventory level. Natural will not be required to construct any new facilities as part of this proposal.

Any questions regarding the prior notice request should be directed to Floyd Hofstetter, Vice President, Storage Operations 747 East 22nd Street, Lombard, Illinois, 60148, at (630) 691-3660.

Any person or the Commission's staff may, within 45 day after issuance of the instant notice by the Commission, file pursuant to Rule 214 of the Commission's Procedural Rules (18 CFR 385.214) a motion to intervene or notice of intervention and pursuant to section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to section 7 of the Natural Gas Act. Comments, protests and interventions may be filed electronically via the internet in lieu of paper. See, 18 CFR 385.2001(a)(1)(iii) and the instructions on the Commission's Web site under the “e-Filing” link.

Magalie R. Salas,
Secretary.

[FR Doc. 02-5285 Filed 3-5-02; 8:45 am]

BILLING CODE 6717-01-P